JUDICIAL CONFERENCE OF THE UNITED STATES

Meeting of the Judicial Conference Advisory Committees on Rules of Appellate, Bankruptcy, Civil, and Criminal Procedure

AGENCY: Advisory Committee on Rules of Appellate, Bankruptcy, Civil, and Criminal Procedure, Judicial Conference of the United States.

ACTION: Notice of open hearings.

SUMMARY: The Advisory Committees on Rules of Appellate, Bankruptcy, Civil, and Criminal Procedure have proposed the following rules:

Appellate Rules: 1, 4, 5, 15, 21, 24, 25, 26, 26.1, 27, 28, 31, 32, 36, 41, 44, and 45, and new Form 6

Bankruptcy Rules: 1004, 2004, 2014, 2015, 4004, 9014, and 9027, and new rule 1004.1, and Official Form 1

Civil Rules: 54, 58, 81, and new rule 7.1

Criminal Rules: 5, 5.1, 10, 12.2, 26, 30, 32, 35, 41, and 43, and new rule 12.4, and “Style Revision” of Rules 1-60

Section 2254 Rules: 2, 3, 6, 8, 9, and 10

Section 2255 Rules: 2, 3, 6, 8, 9, and 10

Public hearings are scheduled to be held on the amendments to:

• Appellate Rules in San Francisco, California, on January 29, 2001;

• Bankruptcy Rules in Washington, DC, on January 26, 2001;

• Civil Rules in San Francisco, California, on January 29, 2001; and

• Criminal Rules in New Orleans, Louisiana, on January 24, 2001; in San Francisco, California, on January 29, 2001; and in Washington, DC, on February 12, 2001.

The Judicial Conference Committee on Rules of Practice and Procedure submits these rules for public comment. All comments and suggestions with respect to them must be placed in the hands of the Secretary as soon as convenient and, in any event, not later than February 15, 2001. Those wishing to testify should contact the Secretary at the address below in writing at least 30 days before the hearing. All written comments on the proposed rule amendments should be mailed to: Peter G. McCabe, Secretary, Committee on Rules of Practice and Procedure of the Judicial Conference of the United States, Thurgood Marshall Federal Judiciary Building, Washington, DC 20544.

Comments on the proposed rule amendments may also be sent electronically via the Internet at <http://www.uscourts.gov/rules>. In accordance with established procedures all comments submitted on the proposed amendments are available to public inspection.

The text of the proposed rule amendments and the accompanying Committee Notes can be found at the United States Federal Courts' Home Page at <http://www.uscourts.gov/rules> on the Internet.

FOR FURTHER INFORMATION CONTACT: John K. Rabiej, Chief, Rules Committee Support Office, Administrative Office of the United States Courts, Washington, DC 20544, telephone (202) 502-1820.

Dated: September 5, 2000.
John K. Rabiej,
Chief, Rules Committee Support Office.

[FR Doc. 00-23473 Filed 9-12-00; 8:45 am]

BILLING CODE 2210-55-M